DEPARTMENT OF THE INTERIOR

Canyons of the Ancients National Monument Advisory Committee; Notice of Renewal

AGENCY: Bureau of Land Management (BLM), Colorado State Office, Interior.

ACTION: Notice of Renewal of the Canyons of the Ancients National Monument Advisory Committee.

SUMMARY: This notice is published in accordance with Section 9(a)(2) of the Federal Advisory Committee Act of 1972, Public Law 92-463. Notice is hereby given that the Secretary of the Interior (Secretary) has renewed the BLM's Canyons of the Ancients National Monument Advisory Committee.

The purpose of the Committee is to provide counsel and advice to the Secretary through the BLM concerning development and implementation of a management plan developed in accordance with the Federal Land Policy and Management Act of 1976, for public lands within the Canyons of the Ancients National Monument.

FOR FURTHER INFORMATION CONTACT: LouAnn Jacobson, Monument Manager, Canyons of the Ancients National Monument, Bureau of Land Management, 27501 Highway 184, Dolores, Colorado 81323, telephone (970) 882-5600.

Certification Statement

I hereby certify that the renewal of the Canyons of the Ancients National Monument Advisory Committee is necessary and in the public interest in connection with the Secretary of the Interior's responsibilities to manage the lands, resources, and facilities administered by the Bureau of Land Management.

Dated: June 12, 2007.
Dirk Kempthorne,
Secretary of the Interior.

[FR Doc. 07-3059 Filed 6-21-07; 8:45 am]

BILLING CODE 4310-32-M